NUCLEAR REGULATORY COMMISSION

[NRC-2009-0304]

Draft Regulatory Guide: Issuance, Availability

AGENCY: Nuclear Regulatory Commission.

ACTION: Issuance, Availability of Draft Regulatory Guide (DG)-1176.

FOR FURTHER INFORMATION CONTACT: Nanette Gilles, U.S. Nuclear Regulatory Commission, Washington, DC 20555-0001, telephone: (301) 415-1180 or e-mail Nanette.Gilles@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide, entitled, “Guidance for the Assessment of Beyond-Design-Basis Aircraft Impacts,” is temporarily identified by its task number, DG-1176, which should be mentioned in all related correspondence. This guide describes a method that the staff of the NRC considers acceptable for use in satisfying its regulations in Title 10 of the Code of Federal Regulations (10 CFR) part 50, “Domestic Licensing of Production and Utilization Facilities,” regarding the consideration of aircraft impacts for new nuclear power reactors. In particular, this guide endorses the methodologies described in the industry guidance document, Nuclear Energy Institute (NEI) 07-13, “Methodology for Performing Aircraft Impact Assessments for New Plant Designs,” Revision 7, issued May 2009. The public version of NEI 07-13 can be found in the NRC's Agencywide Documents Access and Management System (ADAMS), Accession No. ML091490723. Publicly available documents created or received at the NRC are available electronically at the NRC's Electronic Reading Room at http://www.nrc.gov/reading-rm/adams.html. From this page, the public can enter the ADAMS database, which provides text and image files of the NRC's public documents. Persons who do not have access to ADAMS, or who have problems accessing the documents located in ADAMS, may contact the reference staff in the NRC's Public Document Room at 1-800-397-4209 or 301-415-4737, or by e-mail at pdr.resource@nrc.gov. Nonpublic versions of this regulatory guide and NEI 07-13 contain more specific details about the methodology for performing aircraft impact assessments and will be handled under Safeguards Information (SGI) controls. Because the nonpublic guidance documents will contain SGI, the documents will only be made available to those individuals with a need to know and who are otherwise qualified to have access to SGI. Plant designers (including their employees and agents) who meet the NRC's requirements for access to SGI will be entitled to use the more detailed guidance documents to perform the aircraft impact assessments.

II. Further Information

The NRC staff is soliciting comments on DG-1176. Comments may be accompanied by relevant information or supporting data, and should mention DG-1176 in the subject line. Comments submitted in writing or in electronic form will be made available to the public in their entirety through the NRC's Agencywide Documents Access and Management System (ADAMS). Personal information will not be removed from your comments. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID [NRC-2009-0304]. Address questions about NRC dockets to Carol Gallagher, 301-492-3668; e-mail Carol.Gallagher@nrc.gov.

3. Fax comments to: Rulemaking and Directives Branch, Office of Administration, U.S. Nuclear Regulatory Commission at (301) 492-3446.

Requests for technical information about DG-1176 may be directed to the DG-1176 may be directed to the NRC contact, Nanette Gilles at (301) 415-1180 or e-mail to Nanette.Gilles@nrc.gov.

Comments would be most helpful if received by September 8, 2009. Comments received after that date will be considered if it is practical to do so, but the NRC is able to ensure consideration only for comments received on or before this date. Although a time limit is given, comments and suggestions in connection with items for inclusion in guides currently being developed or improvements in all published guides are encouraged at any time.

Electronic copies of DG-1176 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML073170252.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4209, by fax at (301) 415-3548, and by e-mail to pdr.resource@nrc.gov.

Regulatory guides are not copyrighted, and Commission approval is not required to reproduce them.

Dated at Rockville, Maryland, this 6th day of July 2009.
For the Nuclear Regulatory Commission.
Mark P. Orr,
Acting Chief, Regulatory Guide Development Branch, Division of Engineering, Office of Nuclear Regulatory Research.

[FR Doc. E9-16349 Filed 7-9-09; 8:45 am]

BILLING CODE 7590-01-P